DEPARTMENT OF DEFENSE

Department of the Army

Availability for Non-Exclusive, Exclusive, or Partially Exclusive Licensing of U.S. Provisional Patent Application Concerning Protective Garment

AGENCY: Department of the Army, DoD.

ACTION: Notice.

SUMMARY: In accordance with 37 CFR 404.6 and 404.7, announcement is made of the availability for licensing of U.S. Provisional Patent Application No. 60/428,750 entitled “Protective Garment,” filed November 25, 2002. The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The present invention relates to protective garments, providing the wearer improved protection from the inadvertent exposure to materials. The protective garments have an anchoring means for anchoring its sleeves to the wrist or hands of the wearer so as to prevent the sleeve from sliding up the wearer's arm.

Luz D. Ortiz,
Army Federal Register Liaison Officer.

[FR Doc. 03-3243 Filed 2-7-03; 8:45 am]

BILLING CODE 3710-08-M